DEPARTMENT OF HEALTH AND HUMAN SERVICES

Centers for Medicare & Medicaid Services

42 CFR Parts 430, 431, 435, 436, 440, 441, and 447

[CMS-2249-CN]

RIN 0938-AO53

Medicaid Program; State Plan Home and Community-Based Services, 5-Year Period for Waivers, Provider Payment Reassignment, and Setting Requirements for Community First Choice; Correction

AGENCY: Centers for Medicare & Medicaid Services (CMS), HHS.

ACTION: Proposed rule; correction.

SUMMARY: This document corrects a technical error that appeared in the proposed rule published elsewhere in this Federal Register entitled “Medicaid Program; State Plan Home and Community-Based Services, 5-Year Period for Waivers, Provider Payment Reassignment, and Setting Requirements for Community First Choice.” The proposed rule was intended to carry a 60-day comment period, but was submitted with a 30-day comment period. This document corrects that error.

DATES: The comment close date for the proposed rule under the same heading published elsewhere in this issue is correctly extended to July 2, 2012.

FOR FURTHER INFORMATION CONTACT: Annette Brewer, (410) 786-6580.

SUPPLEMENTARY INFORMATION:

I. Background

In the proposed rule that is published elsewhere in this Federal Register, there was a technical error that is identified and corrected in the Correction of Errors section below. The provisions in this correction document are effective as if they had been included in the document that is published elsewhere in this Federal Register.

II. Summary of Errors

In the DATES section of the proposed rule, we inadvertently stated that the comment period would close on June 4, 2012 allowing a 30-day comment period. This notice is being issued to correct that error and to allow a 60-day comment period.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice. We are not issuing additional rulemaking at this time since this notice extends the comment period for the proposed rule to 60 days to allow the public additional time to submit comments.

IV. Correction of Errors

In proposed rule that is published elsewhere in this Federal Register, make the following corrections:

In the DATES section, the date “June 4, 2012” is corrected to read “July 2, 2012”.

(Catalog of Federal Domestic Assistance Program No. 93.778, Medical Assistance Program)

Dated: April 30, 2012.
Jennifer M. Cannistra
Executive Secretary to the Department.

[FR Doc. 2012-10677 Filed 5-1-12; 11:15 am]

BILLING CODE 4120-01-P